DEPARTMENT OF HEALTH AND HUMAN SERVICES

Indian Health Service

Notice of Tribal Consultation and Urban Confer Sessions on the State of the Great Plains Area Indian Health Service; Correction

AGENCY: Indian Health Service (IHS), Department of Health and Human Services.

ACTION: Notice; correction.

SUMMARY: The Indian Health Service published a document in the Federal Register on June 3, 2016, for the Notice of Tribal Consultation and Urban Confer Sessions on the State of the Great Plains Area Indian Health Service. The notice contained the incorrect U.S. Code regarding consultation.

FOR FURTHER INFORMATION CONTACT: CAPT Chris Buchanan, Acting Director, Great Plains Area, Indian Health Service, 115 4th Ave. SE., Suite 309, Aberdeen, South Dakota, (605) 226-7584, Fax (605) 226-7541.

Correction

In the Federal Register of June 3, 2016, in FR Doc. 2016-13135, on page 35787, in the first column, under the heading “SUPPLEMENTARY INFORMATION: fourth paragraph,” delete “[42 U.S.C. 9835, Section 640(l)(4)(A)],” and insert “2 U.S.C. 1534.”

Dated: June 9, 2016.
Elizabeth A. Fowler,
Deputy Director for Management Operations, Indian Health Service.

[FR Doc. 2016-14232 Filed 6-15-16; 8:45 am]

BILLING CODE 4165-16-P